ENVIRONMENTAL PROTECTION AGENCY

40 CFR Part 60

[EPA-HQ-OAR-2013-0602 and EPA-HQ-OAR-2013-0603; FRL-9913-33-OAR]

RIN 2060-AR33; 2060-AR88

Carbon Pollution Emission Guidelines for Existing Stationary Sources and Standards for Modified and Reconstructed Stationary Sources: EGUs

AGENCY: Environmental Protection Agency.

ACTION: Proposed rule; notice of additional public hearings.

SUMMARY: The Environmental Protection Agency (EPA) published in the Federal Register on June 18, 2014, the proposed rules, “Carbon Pollution Emission Guidelines for Existing Stationary Sources: Electric Utility Generating Units” and “Carbon Pollution Standards for Modified and Reconstructed Stationary Sources: Electric Utility Generating Units.” The EPA is announcing four additional public hearings, in addition to the previously announced dates on June 18, 2014.

DATES: Comments on the proposed rules. Comments must be received on or before October 16, 2014.

Because of the overwhelming response to the previously announced public hearings, the EPA will hold four additional public hearings. The following table outlines the updated public hearings schedule for the Carbon Pollution rules:

Carbon Pollution Public Hearings Schedule
Location | Original date | Additional date
Atlanta, Georgia | July 29, 2014 | July 30, 2014.
Denver, Colorado | July 29, 2014 | July 30, 2014.
Washington, DC | July 30, 2014 | July 29, 2014.
Pittsburgh, Pennsylvania | July 31, 2014 | August 1, 2014.

ADDRESSES: On July 30, 2014, one additional public hearing will be held in Atlanta, Georgia, at the Sam Nunn Atlanta Federal Center Main Tower Bridge Conference Area, Conference Room B, 61 Forsyth Street SW., Atlanta, Georgia 30303, and one additional public hearing will be held in Denver, Colorado, at the EPA's Region 8 Building, 1595 Wynkoop Street, Denver, Colorado 80202. On July 29, 2014, one additional public hearing will be held in Washington, DC, at the William Jefferson Clinton East Building, Room 1152, 1201 Constitution Avenue NW., Washington, DC 20004. On August 1, 2014, one additional public hearing will be held in Pittsburgh, Pennsylvania, at the William S. Moorhead Federal Building, Room 1310, 1000 Liberty Avenue, Pittsburgh, Pennsylvania 15222. The hearings in Pittsburgh, Pennsylvania, Atlanta, Georgia, and Washington, DC, will convene at 9:00 a.m. and end at 8:00 p.m. (Eastern Daylight Time). The hearing in Denver, Colorado, will convene at 9:00 a.m. and end at 8:00 p.m. (Mountain Daylight Time). For all hearings, there will be a lunch break from 12:00 p.m. to 1:00 p.m. and a dinner break from 5:00 p.m. to 6:00 p.m. Because of the large number of speakers requesting time to speak at the previously announced hearings, we discourage those that have already registered to speak from changing their currently scheduled speaking time.

FOR FURTHER INFORMATION CONTACT: If you would like to present oral testimony, please contact Ms. Pamela Garrett at (919) 541-7966 or at garrett.pamela@epa.gov to register to speak at one of the hearings. The last day to pre-register to speak at the hearings will be Friday, July 25, 2014. Additionally, requests to speak will be taken the day of the hearings at the hearing registration desk, although preferences on speaking times may not be able to be fulfilled. If you require the service of a translator or accommodations such as audio description, please contact Ms. Pamela Garrett by July 25, 2014.

Questions concerning the “Carbon Pollution Emission Guidelines for Existing Stationary Sources: Electric Utility Generating Units,” published in the Federal Register on June 18, 2014, should be addressed to Ms. Amy Vasu, Sector Policies and Programs Division (D205-01), U.S. EPA, Research Triangle Park, NC 27711; telephone number (919) 541-0107, facsimile number (919) 541-4991; email address: vasu.amy@epa.gov, or Ms. Marguerite McLamb, Sector Policies and Programs Division (D205-01), U.S. EPA, Research Triangle Park, NC 27711; telephone number (919) 541-7858, facsimile number (919) 541-4991; email address: mclamb.marguerite@epa.gov.

Questions concerning the “Carbon Pollution Standards for Modified and Reconstructed Stationary Sources: Electric Utility Generating Units,” published in the Federal Register on June 18, 2014, should be addressed to Mr. Christian Fellner, Energy Strategies Group, Sector Policies and Programs Division (D243-01), U.S. EPA, Research Triangle Park, NC 27711; telephone number (919) 541-4003, facsimile number (919) 541-5450; email address: fellner.christian@epa.gov, or Dr. Nick Hutson, Energy Strategies Group, Sector Policies and Programs Division (D243-01), U.S. EPA, Research Triangle Park, NC 27711; telephone number (919) 541-2968, facsimile number (919) 541-5450; email address: hutson.nick@epa.gov.

SUPPLEMENTARY INFORMATION: The hearings will provide interested parties the opportunity to present data, views or arguments concerning the proposed actions. The EPA will make every effort to accommodate all speakers who arrive and register. Because these hearings are being held at U.S. government facilities, individuals planning to attend the hearing should be prepared to show valid picture identification to the security staff in order to gain access to the meeting room. Please note that the REAL ID Act, passed by Congress in 2005, established new requirements for entering federal facilities. These requirements will take effect July 21, 2014. If your driver's license is issued by Alaska, American Samoa, Arizona, Kentucky, Louisiana, Maine, Massachusetts, Minnesota, Montana, New York, Oklahoma or the state of Washington, you must present an additional form of identification to enter the federal buildings where the public hearings will be held. Acceptable alternative forms of identification include: Federal employee badges, passports, enhanced driver's licenses and military identification cards. We will list any additional acceptable forms of identification at: http://www.epa.gov/cleanpowerplan. In addition, you will need to obtain a property pass for any personal belongings you bring with you. Upon leaving the building, you will be required to return this property pass to the security desk. No large signs will be allowed in the building, cameras may only be used outside of the building and demonstrations will not be allowed on federal property for security reasons.

The EPA may ask clarifying questions during the oral presentations, but will not respond to the presentations. Written statements and supporting information submitted during the comment period will be considered with the same weight as oral comments and supporting information presented at the public hearing. Commenters should notify Ms. Pamela Garrett by July 25, 2014, if they will need specific equipment, or if there are other special needs related to providing comments at the hearings. Verbatim transcripts of the hearings and written statements will be included in the docket for the rulemaking. The EPA will make every effort to follow the schedule as closely as possible on the day of the hearing; however, please plan for the hearings to run either ahead of schedule or behind schedule. Additionally, more information regarding the hearings will be available at: http://www.epa.gov/cleanpowerplan.

How can I get copies of this document and other related information?

The EPA has established dockets for the proposed rules: “Carbon Pollution Emission Guidelines for Existing Stationary Sources: Electric Utility Generating Units” under Docket ID No. EPA-HQ-OAR-2013-0602, and “Carbon Pollution Standards for Modified and Reconstructed Stationary Sources: Electric Utility Generating Units” under Docket ID No. EPA-HQ-OAR-2013-0603, available at http://www.regulations.gov.

List of Subjects in 40 CFR Part 60

Environmental protection, Administrative practice and procedure, Air pollution control, Intergovernmental relations, Reporting and recordkeeping requirements.

Dated: June 25, 2014.
Mary Henigin,
Acting Director, Office of Air Quality Planning and Standards.

[FR Doc. 2014-15664 Filed 7-2-14; 8:45 am]

BILLING CODE 6560-50-P